DEPARTMENT OF HOMELAND SECURITY

U.S. Citizenship and Immigration Services

[CIS No. 2676-21; DHS Docket No. USCIS-2019-0020]

RIN 1615-ZB83

Continuation of Documentation for Beneficiaries of Temporary Protected Status Designations for El Salvador, Haiti, Nicaragua, Sudan, Honduras, and Nepal

AGENCY: U.S. Citizenship and Immigration Services, Department of Homeland Security.

ACTION: Notice; correction.

SUMMARY: U.S. Citizenship and Immigration Services (USCIS), a component of the Department of Homeland Security (DHS), is making a correction to the notice titled “Continuation of Documentation for Beneficiaries of Temporary Protected Status Designations for El Salvador, Haiti, Nicaragua, Sudan, Honduras, and Nepal” that published in the Federal Register on September 10, 2021, at 86 FR 50725. USCIS is correcting an omission in the Additional Notes section of the notice to clarify that the previously announced determination to terminate the 2011 designation of TPS for Haiti will not be implemented or enforced unless and until the district court's orders in Saget, et al., v. Trump, et al., No. 18-cv-1599 (E.D.N.Y. Apr. 11, 2019) (“Saget”) and Ramos, et al. v. Nielsen, et al., No. 18-cv-01554 (N.D. Cal. Oct. 3, 2018) (“Ramos”) are reversed and the reversal becomes final.

FOR FURTHER INFORMATION CONTACT:

• You may contact Andria Strano, Acting Chief, Humanitarian Affairs Division, Office of Policy and Strategy, U.S. Citizenship and Immigration Services, Department of Homeland Security, by mail at 5900 Capital Gateway Drive, Camp Springs, MD 20746, or by phone at 800-375-5283.

• For further information on TPS, please visit the USCIS TPS web page at uscis.gov/tps.

• If you have additional questions about TPS, please visit uscis.gov/tools. Our online virtual assistant, Emma, can answer many of your questions and point you to additional information on our website. If you are unable to find your answers there, you may also call our USCIS Contact Center at 800-375-5283 (TTY 800-767-1833).

• Applicants seeking information about the status of their individual cases may check Case Status Online, available on the USCIS website at uscis.gov, or visit the USCIS Contact Center at uscis.gov/contactcenter.

• Further information will also be available at local USCIS offices upon publication of this notice.

SUPPLEMENTARY INFORMATION: On September 10, 2021, DHS published a notice in the Federal Register at 86 FR 50725. USCIS is making a correction to that published notice. The correction is as follows:

USCIS is correcting the second sentence in the third paragraph in the Additional Notes section of the published notice. USCIS is correcting the sentence to state that the determination to terminate the 2011 designation of TPS for Haiti will not be implemented or enforced unless and until the district court's orders in Saget and Ramos are reversed and the reversal becomes final, rather than that the termination will not be implemented and enforced unless and until the district court's order in only Saget is reversed and the reversal becomes final. USCIS is making this correction because the termination is enjoined in Ramos as well as in Saget.

Correction

In FR 2021-19617, on page 50729 in the Federal Register of September 10, 2021, in the second column, USCIS is correcting the sentence as follows:

The previously announced determination to terminate the 2011 designation of TPS for Haiti will not be implemented or enforced unless and until the district courts' orders in Saget and Ramos are reversed and the reversal becomes final.

Samantha Deshommes,
Chief, Regulatory Coordination Division, Office of Policy and Strategy, U.S. Citizenship and Immigration Services, U.S. Department of Homeland Security.

[FR Doc. 2021-20481 Filed 9-21-21; 8:45 am]

BILLING CODE 9111-97-P